DEPARTMENT OF ENERGY

Federal Energy Regulatory Commission

[Docket No. EC03-106-000, et al.]

Mobile Energy Services Company. LLC, et al.; Electric Rate and Corporate Filings

July 17, 2003.

The following filings have been made with the Commission. The filings are listed in ascending order within each docket classification.

1. Mobile Energy Services Company, LLC

[Docket No. EC03-106-000 Mobile Energy Services Holdings, Inc.]

Take notice that on July 11, 2003, Mobile Energy Services Company, LLC and Mobile Energy Services Holdings, Inc. (jointly the Applicants) filed with the Federal Energy Regulatory Commission (Commission), an application for authorization of the disposition of jurisdictional facilities to certain creditors under a proposed plan of reorganization in connection with bankruptcy proceedings, pursuant to Section 203 of the Federal Power Act, 16 U.S.C. 824(b)(2002), and a request for expedited approval and waiver of various provisions of the regulations.

Comment Date: August 1, 2003.

2. UNS Electric, Inc.

[Docket No. ER03-1064-000]

Take notice that on July 14, 2003, UNS Electric, Inc. (UNS Electric) filed an application requesting acceptance of (1) The Open Access Transmission Tariff of UNS Electric, Inc.; (2) a Non-firm Interchange Agreement between UNS Electric, Inc. and Aha Macav Power Service; (3) an Interchange Agreement between El Paso Electric Company and UNS Electric, Inc.; and (4) an Interconnection Agreement between Nevada Power Company and UNS Electric, Inc. UNS Electric states that the tariff and agreements will be transferred to UNS Electric as a result of the Commission-approved transfer of certain electric assets from Citizens Communications Company to UniSource Energy Corporation, UNS Electric's corporate parent. See Tucson Elec. Power Co., 103 FERC ¶ 62,100.

Comment Date: August 4, 2003.

3. Cleco Power LLC

[Docket No. ER03-1065-000]

Take notice that on July 14, 2003, Cleco Power LLC tendered for filing a Second Revised Service Agreement No. 66, under FERC Electric Tariff Original Volume No. 1. Cleco Power LLC states that the filing reflects revisions to the agreement made in section 1.3, Commercial Operation Date. Cleco Power LLC also states that the original Commercial Operation Date of November 1, 2004 has been revised to reflect a later date of June 1, 2005.

Comment Date: August 4, 2003.

4. The Dayton Power and Light Company

[Docket No. ER03-1066-000]

Take notice that on July 14, 2003, The Dayton Power and Light Company (Dayton), tendered for filing an Amendment to Interconnection Agreement with DPL Energy, LLC.

Comment Date: August 4, 2003.

5. Santa Rosa Energy LLC

[Docket No. ER03-1067-000]

Take notice that on July 14, 2003, Santa Rosa Energy LLC filed a Notice of Cancellation of its Rate Schedule FERC No. 1.

Comment Date: August 4, 2003.

6. Cinergy Services, Inc.

[Docket No. ER03-1068-000]

Take notice that on July 14, 2003, Cinergy Services, Inc., on behalf of The Cincinnati Gas & Electric Company (CG&E), tendered for filing a Notice of Cancellation of CG&E's FERC Electric Tariff, First Revised Volume No. 1, Rate WH-1, Rate Schedule No. 4.

Comment Date: August 4, 2003.

7. Cinergy Services, Inc.

[Docket No. ER03-1069-000]

Take notice that on July 14, 2003, Cinergy Services, Inc., on behalf of The Cincinnati Gas & Electric Company (CG&E), tendered for filing a Notice of Cancellation of CG&E's FERC Electric Tariff, First Revised Volume No. 1, Rate WS-P, Rate Schedule No. 5.

Comment Date: August 4, 2003.

8. Cinergy Services, Inc.

[Docket No. ER03-1070-000]

Take notice that on July 14, 2003, Cinergy Services, Inc., on behalf of The Cincinnati Gas & Electric Company (CG&E), tendered for filing a Notice of Cancellation of CG&E's FERC Electric Tariff, First Revised Volume No. 1, Rate WS-S, Rate Schedule No. 6.

Comment Date: August 4, 2003.

9. Cinergy Services, Inc.

[Docket No. ER03-1071-000]

Take notice that on July 14, 2003, Cinergy Services, Inc., on behalf of The Union Light, Heat and Power Company (ULH&P), tendered for filing a Notice of Cancellation of ULH&P's FERC Electric Tariff, Original Volume No. 1, Rate WS-S, Rate Schedule No. 4.

Comment Date: August 4, 2003.

10. New England Power Pool

[Docket No. ER03-1072-000]

Take notice that on July 15, 2003, the New England Power Pool (NEPOOL) submitted the Ninety-Eighth Agreement Amending New England Power Pool Agreement, which modifies Attachments L, N, and O of the Restated NEPOOL Open Access Transmission Tariff (the NEPOOL Tariff), the Financial Assurance Policy for NEPOOL Members, the NEPOOL Billing Policy, and the Financial Assurance Policy for Non-Participant Financial Transmission Rights Customers and Non-Participant Demand Response Providers (collectively, the Policies). NEPOOL states that the changes to the Policies (i) Change the timing of suspension of a Non-Municipal Participant that fails to provide adequate financial assurance; and (ii) change the Policies so that the suspension provisions more precisely reflect how the NEPOOL Markets operate under Standard Market Design in New England. A September 15, 2003 effective date is requested for these changes.

NEPOOL states that copies of these materials were sent to the NEPOOL Participants, Non-Participant Transmission Customers and the New England state governors and regulatory commissions.

Comment Date: August 5, 2003.

11. Florida Power & Light Company

[Docket Nos. ER03-1074-000]

Take notice that on July 15, 2003, Florida Power & Light Company (FPL) filed with the Federal Energy Regulatory Commission the First Revised Rate Schedule No. 23, which is the Contract for Interchange Service between FPL and Tampa Electric Corporation (Tampa Electric).

FPL states that a copy of this filing has been served on Tampa Electric and the Florida Public Service Commission.

Comment Date: August 5, 2003.

12. Cinergy Services, Inc.

[Docket No. ER03-1075-000]

Take notice that on July 14, 2003, Cinergy Services, Inc., on behalf of The Cincinnati Gas & Electric Company (CG&E), tendered for filing a Notice of Cancellation of CG&E's F.E.R.C. Electric Tariff, First Revised Volume No. 1, Rider F, Rate Schedule No. 7A.

Comment Date: August 4, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number field to access the document. For assistance, contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-18772 Filed 7-22-03; 8:45 am]

BILLING CODE 6717-01-P